FEDERAL MARITIME COMMISSION

Notice of Agreements Filed

The Commission hereby gives notice of the filing of the following agreements under the Shipping Act of 1984. Interested parties may submit comments on the agreements to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 011284-079.

Agreement Name: Ocean Carrier Equipment Management Association.

Parties: American President Lines, Ltd.; APL Co. Pte. Ltd.; CMA CGM S.A.; Cosco Shipping Co., Ltd.; Evergreen Line Joint Service Agreement; Hamburg Sud; Hapag-Lloyd AG; Hapag-Lloyd USA, LLC; Hyundai Merchant Marine Co., Ltd.; Maersk Line A/S; Mediterranean Shipping Company S.A.; Orient Overseas Container Line Limited; Wan Hai Lines Ltd.; Zim Integrated Shipping Services Ltd.; and Ocean Network Express Pte. Ltd.

Filing Party: Donald Kassilke; Cozen O'Connor.

Synopsis: The amendment deletes Mitsui O.S.K. Lines, Ltd.; Nippon Yusen Kaisha Line; and Kawasaki Kisen Kaisha, Ltd. as parties to the Agreement due to the creation of Ocean Network Express Pte. Ltd. The amendment also deletes Yang Ming Marine Transport Corp., which has withdrawn from the Agreement.

Proposed Effective Date: 10/2/2018.

Location: https://www2.fmc.gov/FMC.Agreements.Web/Public/AgreementHistory/1560

Agreement No.: 201232-002.

Agreement Name: NYSA—ILA Assessment Agreement.

Parties: International Longshoremen's Association, AFL-CIO and the New York Shipping Association.

Filing Party: Donato Caruso, The Lambos Firm LLP; and Andre Mazzola, Marrinan & Mazzola Mardon P.C.

Synopsis: The amendment updates the Agreement to include a resolution which permits the use of assessments to fund additional labor costs for staff employees which are incurred by terminal operators for weekend hiring.

Proposed Effective Date: 10/4/2018.

Location: https://www2.fmc.gov/FMC.Agreements.Web/Public/AgreementHistory/2072

Agreement No.: 011730-008.

Agreement Name: GWF/Dole Space Charter and Sailing Agreement.

Parties: Dole Ocean Cargo Express, LLC; Great White Fleet Corp.; and Great White Fleet Liner Services, Ltd.

Filing Party: Wayne Rohde; Cozen O'Connor.

Synopsis: The amendment removes Dole Ocean Cargo Express, Inc. as a party to the Agreement and replaces it with Dole Ocean Cargo Express, LLC.

Proposed Effective Date: 11/10/2018.

Location: https://www2.fmc.gov/FMC.Agreements.Web/Public/AgreementHistory/698

Agreement No.: 201278.

Agreement Name: HLAG/ONE Gulf-Central America Slot Charter Agreement.

Parties: Hapag-Lloyd AG and Ocean Network Express Pte. Ltd.

Filing Party: Wayne Rohde; Cozen O'Connor.

Synopsis: The Agreement authorizes Hapag-Lloyd to charter space to ONE on its GCS service in the trade between U.S. Gulf Coast ports and Puerto Rico on the one hand and ports in Mexico, the Dominican Republic, Colombia, Costa Rica, Guatemala, and Honduras on the other hand.

Proposed Effective Date: 11/12/2018.

Location: https://www2.fmc.gov/FMC.Agreements.Web/Public/AgreementHistory/16301

Dated: October 5, 2018.
JoAnne O'Bryant,
Program Analyst.

[FR Doc. 2018-22191 Filed 10-11-18; 8:45 am]

BILLING CODE 6731-AA-P